DEPARTMENT OF DEFENSE

Office of the Secretary

[Docket ID DoD-2010-HA-0131]

Proposed Collection; Comment Request

AGENCY: Office of the Assistant Secretary of Defense for Health Affairs, DoD.

ACTION: Notice.

SUMMARY: In compliance with Section 3506(c)(2)(A) of the Paperwork Reduction Act of 1995, the Office of the Assistant Secretary of Defense for Health Affairs announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 29, 2010.

ADDRESSES: You may submit comments, identified by docket number and title, by any of the following methods:

• Federal eRulemaking Portal: http://www.regulations.gov. Follow the instructions for submitting comments.

• Mail: Federal Docket Management System Office, 1160 Defense Pentagon, Room 3C843, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to TRICARE Management Activity, Office of General Counsel, 61401 E. Centretech Parkway, Attn: Michael Bibbo, Aurora, CO 80011, or call TRICARE Management Activity, Office of General Counsel, at (303) 676-3705.

Title; Associated Form; and OMB Number: Statement of Personal Injury—Possible Third Party Liability, TRICARE Management Activity; DD Form 2527; OMB Control Number 0720-0003.

Needs and Uses: This information collection is completed by TRICARE (formerly CHAMPUS) beneficiaries suffering from personal injuries and receiving medical care at Government expense. The information is necessary in the assertion of the Government's right to recovery under the Federal Medical Care Recovery Act. The data is used in the evaluation and processing of these claims.

Affected Public: Individuals or households; Federal Government.

Annual Burden Hours: 56,100.

Number of Respondents: 224,399.

Responses per Respondent: 1.

Average Burden per Response: 15 minutes.

Frequency: On occasion.

SUPPLEMENTARY INFORMATION:

Summary of Information Collection

The Federal Medical Recovery Act, 42 U.S.C. 2651-2653 as implemented by Executive Order No. 11060 and 28 CFR part 43 provides for recovery of the reasonable value of medical care provided by the United States to a person who is injured or suffers a disease under circumstances creating tort liability in a third person. DD Form 2527 is required for investigating and asserting claims in favor of the United States arising out of such incidents.

When a claim for TRICARE benefits is identified as involving possible third party liability and the information is not submitted with the claim, the TRICARE contractor requests that the injured party (or a designee) complete DD Form 2527. To protect the interests of the Government, the contractor suspends claims processing until the requested third party liability information is received. The contractor conducts a preliminary evaluation based upon the collection of information and refers the case to a designated appropriate legal officer of the Uniformed Services. The responsible Uniformed Services legal officer uses the information as a basis for asserting and settling the Government's claim. When appropriate, the information is forwarded to the Department of Justice as the basis for litigation.

Section 1 of the Form is used to collect general information, such as name, address and telephone numbers about the military sponsor and the injured beneficiary and the date, time and location where the injured occurred.

Section 2 of the Form is used to collect information about accidental injuries. Most of the investigations for third party liability involve motor vehicle accidents. Information about insurance coverage for the parties involved in the accident is collected. Section 2 of the Form is also used to collect information about accidents not involving motor vehicles. Information such as the type of accident, the place where the injury occurred, the name of the property owner where the injury occurred and cause of the injury is collected. The name and address of the employer is collected when the injury was work related.

Section 3 of the Form is used for miscellaneous information such as possible medical treatment at a Government hospital, the name and address of the beneficiary's attorney, and information regarding any possible releases or settlements with another party to the accident. It also contains the certification, date and signature of the beneficiary (or a designee).

Dated: September 17, 2010.
Patricia L. Toppings,
OSD Federal Register Liaison Officer, Department of Defense.

[FR Doc. 2010-24529 Filed 9-29-10; 8:45 am]

BILLING CODE 5001-06-P